DEPARTMENT OF ENERGY

Federal Energy Regulatory Commission

[Docket No. CP06-429-000]

Florida Gas Transmission Company; Notice of Request Under Blanket Authorization

August 17, 2006.

Take notice that on August 8, 2006, Florida Gas Transmission Company (FGT), 5444 Westheimer Road, Houston, Texas 77056, filed in Docket No. CP06-429-000 a request pursuant to Sections 157.205 and 157.208 of the Commission's Regulations under the Natural Gas Act (18 CFR Sections 157.205 and 157.208) for authorization to replace approximately 6.6 miles of existing St Petersburg 12-inch lateral gas transmission lines located in east-central Pinellas County, Florida, under the authorization issued in Docket No. CP82-553-000 pursuant to Section 7 of the Natural Gas Act, all as more fully described in the request.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Stephen Veatch, Senior Director of Certificates & Tariffs, Florida Gas Transmission Company, 5444 Westheimer Road, Houston, Texas 77056, at (713) 989-2024 or Fax (713) 989-1158 or by e-mail Stephen.veatch@SUG.com.

FGT states that there are five (5) sections of the 12-inch St. Petersburg lateral that need to be replaced. In addition to the 12-inch pipeline to be replaced, FGT indicates that it intends to install a 12-inch pig launcher and receiver, and replace block valves BV 24-10 and 24-11. FGT contends that the additional installations would allow for passage of a pipeline integrity tool to be run after the segments are replaced.

FGT asserts that the proposed project is required to upgrade and repair line sections and valves which have been in service for an extended period of time. FGT maintains that the replaced pipe would be filled with grout and abandoned in place. FGT concludes that the total costs for the project is estimated to be $19,987,000.

Any person or the Commission's Staff may, within 45 days after the issuance of the instant notice by the Commission, file pursuant to Rule 214 of the Commission's Procedural Rules (18 CFR 385.214) a motion to intervene or notice of intervention and, pursuant to Section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Comments, protests and interventions may be filed electronically via the Internet in lieu of paper. See, 18 CFR 385.2001(a)(1)(iii) and the instructions on the Commission's Web site under the “e-filing” link. The Commission strongly encourages electronic filings.

Magalie R. Salas,
Secretary.

[FR Doc. E6-14010 Filed 8-23-06; 8:45 am]

BILLING CODE 6717-01-P